DEPARTMENT OF AGRICULTURE

Risk Management Agency

Request for Extension and Revision of a Currently Approved Information Collection

AGENCY: Risk Management Agency, USDA.

ACTION: Notice and request for comments.

SUMMARY: In accordance with the Paperwork Reduction Act of 1995 (44 U.S.C Chapter 35) this notice announces the Risk Management Agency's intention to request an extension for and revision to a currently approved information collection for Risk Management and Crop Insurance Education; Request for Applications.

DATES: Comments on this notice will be accepted until close of business August 8, 2005.

FOR FURTHER INFORMATION CONTACT: Lon Burke, Risk Management Education Division, USDA/RMA, 1400 Independence Avenue, SW., Stop 0808, Washington, DC 20250-0808, telephone (202) 720-5265. Comments may also be submitted electronically to: RMA.Risk-Ed@rma.usda.gov.

SUPPLEMENTARY INFORMATION: Title: Risk Management and Crop Insurance Education; Request for Applications.

OMB Number: 0563-0067.

Type of Request: Extension and revision of a currently approved information collection.

Abstract: The Federal Crop Insurance Act directs the Federal Crop Insurance Corporation. Corporation operating through RMA, to (a) establish crop insurance education and information programs in States that have been historically underserved by the Federal crop insurance program [7 U.S.C. 1524(a)(2)]; and (b) provide agricultural producers with training opportunities in risk management, with a priority given to producers of specialty crops and underserved commodities [7 U.S.C. 1522(d)(3)(F)]. With this submission, RMA seeks to obtain OMB's approval for an information collection project that will assist RMA in operating and evaluating these programs. The information collection project is a Request for Applications. The primary objective of the information collection projects is to enable RMA to better evaluate the performance capacity and plans of organizations that are applying for funds for cooperative and partnership agreements for risk management education programs and crop insurance education programs.

Estimate of burden: The public reporting burden for this collection of information is estimated to average: 15 hours, 45 minutes per response for the Commodity Partnerships Program and Targeted States Program for agri-business professionals, and 4 hours, 45 minutes per response for the Commodity Partnerships Small Sessions Program for a total of 2,255 hours.

Respondents/Affected Entities: Agribusiness professionals.

Estimated annual number of respondents: 220 respondents.

Estimated annual number of responses: 220 responses or 1 per respondent.

Estimated total annual burden on respondents: 523 hours.

Comments are invited on: (1) Whether the proposed collection of information is necessary for the proper performance of the functions of the agency, including whether the information will have practical utility; (2) the accuracy of the agency's estimate of the burden of the proposed collection information; (3) ways to enhance the quality, utility, and clarity of the information to be collected; and (4) ways to minimize the burden of the collection of information on those who are to respond, through use, as appropriate, of automated, electronic, mechanical, or other collection technologies, e.g. permitting electronic submission of responses. Comments may be sent to Lon Burke, Risk Management Education Division, USDA/RMA, 1400 Independence Avenue, SW., Stop 0808, Washington, DC 20250-0808. All comments will be available for public inspection during regular business hours at the same address.

All responses to this notice will be summarized and included in the request for OMB approval. All comments will also become a matter of public record.

Signed in Washington, DC, on June 2, 2005.
R.J. Davidson, Jr.,
Manager, Federal Crop Insurance Corporation.

[FR Doc. 05-11313 Filed 6-7-05; 8:45 am]

BILLING CODE 3410-FA-P